DEPARTMENT OF TRANSPORTATION

Federal Highway Administration

Environmental Impact Statement; Opportunity Corridor, City of Cleveland, Cuyahoga County, OH

AGENCY: Federal Highway Administration (FHWA), DOT.

ACTION: Notice of intent.

SUMMARY: The FHWA is issuing this notice to advise the public that an Environmental Impact Statement will be prepared for transportation improvements proposed in Cuyahoga County, Ohio.

FOR FURTHER INFORMATION CONTACT: Laura S. Leffler, Division Administrator, Federal Highway Administration, 200 North High Street, Room 328, Columbus, Ohio 43215, Telephone: (614) 280-6896.

SUPPLEMENTARY INFORMATION: The Federal Highway Administration (FHWA), in cooperation with the Ohio Department of Transportation (ODOT), will prepare an Environmental Impact Statement (EIS) on a proposal to construct new roadways on new alignments between Interstate 490 and the University Circle area of Cleveland, Ohio. The study area extends from Interstate 77/Interstate 490 in the west to East 105th Street and Chester Avenue (U.S. 322) in the east and is located entirely in the City of Cleveland, Ohio. The study area runs generally parallel to the existing railroad transportation corridor containing Greater Cleveland Regional Transit Authority's (GCRTA) Red Line and freight tracks owned and operated by Norfolk Southern Corporation (NS) and CSX Corporation (CSX).

The purpose of the transportation improvement is to create the transportation infrastructure to improve mobility and access in southeast Cleveland and support the revival and redevelopment of large tracts of vacant industrial and residential land within an area bounded by Cedar Avenue on the north, east 55th Street on the West, Woodhill Road/East 93rd Street on the east and Union Avenue on the south. Actions under consideration include (1) six various alternatives to construct a boulevard type roadway including a multi-lane urban arterial with curbs, an elevated landscape median, multi-modal facilities, landscaping and lighting, and (2) taking no action. The current six various alternatives have been born out of a previous planning study called the University Circle Access Boulevard. The project development process including the refinement of Conceptual Alternatives and the development of Feasible Alternatives will be included in the Draft EIS.

Letters describing the proposed action and soliciting comments will be sent to appropriate Federal, State and local agencies and to private organizations and citizens who have previously expressed or are known to have interest in this proposal. A series of public meetings and hearings will be held in the project area. Public notice will be given of the exact time and place of the meetings and the hearing to be held for the project. The Draft EIS will be available for public and agency review and comment prior to the Public Hearing.

To ensure that the full range of issues related to this proposed action are addressed and all significant issues identified, comments, and suggestions are invited from all interested parties. Comments or questions concerning this proposed action or the EIS should be directed to the FHWA at the address provided above.

(Catalog of Federal Domestic Assistance Program Number 20.205, Highway Planning and Construction. The regulations implementing Executive Order 12372 regarding intergovernmental consultation on Federal programs and activities apply to this program.)

Authority: 23 U.S.C. 315; 49 CFR 1.48.

Issued on: August 19, 2010.
Laura S. Leffler,
Division Administrator, Federal Highway Administration, Columbus, Ohio.

[FR Doc. 2010-21911 Filed 8-31-10; 8:45 am]

BILLING CODE 4910-22-P